DEPARTMENT OF HOMELAND SECURITY

Federal Emergency Management Agency

[Docket ID: FEMA-2022-0038; OMB No. 1660-NW144]

Agency Information Collection Activities: Submission for OMB Review, Comment Request; FEMA Region II Community and Faith-Based Organizations Needs/Capabilities and Continuity Program Survey

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. The submission seeks comments concerning a series of surveys on continuity planning and organizational needs and capabilities from various stakeholders.

DATES: Comments must be submitted on or before May 31, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address: FEMA-Information-Collections-Management@fema.dhs.gov or Jeremy Brooks, Management and Program Analyst, at jeremy.brooks@fema.dhs.gov or 202-355-4981.

SUPPLEMENTARY INFORMATION: The legal basis for the collection off the following information includes Titles 6 and 42 of the United States Code. The sections in Title 6 include 313, 314, and 317, which provides legal authority and responsibilities to the Federal Emergency Management Agency (FEMA) and to its respective regional offices to work with state, local, territorial and Tribal (SLTT) governments and private non-profits (PNP) with disaster preparedness. The sections in Title 42 include 5131(a), 5131(b), 5195, 5196(e), and 5196(f). The identified sub sections of 5131 provides legal authority to FEMA Federal and state disaster preparedness programs via utilization of services of other agencies and technical assistance. Section 5195 stats that a purpose of 42 U.S.C. et seq. is to vest responsibility for emergency preparedness in the Federal Government. Section 5195a provides definitions for relevant terms. Sections 5196(e) and 5196(f) provide detailed functions of administration for emergency preparedness measures and training programs. All these legal authorities affirm the authority of FEMA Region II to collect this information and the critical need to do so.

Additionally, the Presidential Policy Directive (PPD-8)—National Preparedness, directed the development of the National Preparedness Goal that identifies core capabilities necessary for preparedness and a National Preparedness System to guide activities to reach the Goal. The proposed collection works to improve tracking of core capabilities across FEMA Region II to most efficiently use resources to meet the National Preparedness Goal by utilizing elements of the 2018 FEMA text, Engaging Community and Faith-based Organizations.

The Federal Emergency Management Agency (FEMA) National Preparedness Division (NPD) is responsible for educating and securing the nation with the capabilities required across the whole community to prevent, protect against, mitigate, respond to, and recover from the threats and hazards that pose the greatest risk. One of the ways FEMA accomplishes this is through conducting exercises, trainings, and webinars where stakeholders like SLTT governments and PNP entities participate.

The delivery methodology of these programs to a variety of stakeholders are always evolving and continuously improving to meet stakeholder's needs. Likewise, as internal agency policy changes, so can delivery methods. Specifically for FEMA, this includes release of the 2022-2026 FEMA Strategic Plan. Strategic Goal #3 includes Promote and Sustain a Ready FEMA and Prepared Nation, and the objectives 3.1—Strengthen the Emergency Management Workforce and 3.2—Posture FEMA to Meet Current and Emergency Threats. This strategic goal and its associated objectives are well aligned to priorities of FEMA Region II's National Preparedness Division, with internal goals of data-driven capacity building and a more equitable approach to program delivery.

By better gauging stakeholder capacity and needs at an organizational level we can better provide programs and services to our stakeholders to ultimately improve preparedness in FEMA Region II.

Authorities for the collection of information include the following: Presidential Policy Directive (PPD-8), National Preparedness; 6 U.S.C. 313, 314, 317(c); 42 U.S.C. 5195, 5196(e) and (f); 42 U.S.C. 5131(a) and (b).

This proposed information collection previously published in the Federal Register on January 3, 2023, at 88 FR 87 with a 60 day public comment period. One comment suggesting multiple detailed edits was received. The purpose of this notice is to notify the public that FEMA will submit the information collection abstracted below to the Office of Management and Budget for review and clearance.

Collection of Information

Title: FEMA Region II Community and Faith-Based Organizations Needs/Capabilities and Continuity Program Survey.

Type of Information Collection: New information collection.

OMB Number: 1660-NW144.

FEMA Forms: FEMA Form FF-008-FY-22-128, Region II Community and Faith-Based Organizations Needs/Capabilities Feedback Survey.

Abstract: FEMA Region II (NJ, NY, PR, VI) is working to better assess the ability of stakeholders' emergency response capabilities to better target program design and delivery in the future. These voluntary survey questions are designed to collect actionable data at the organizational level and allows for a better understanding of potential future collaborations.

Affected Public: Not-for-profit institutions; State, Local, or Tribal Government.

Estimated Number of Respondents: 1,862.

Estimated Number of Responses: 1,862.

Estimated Total Annual Burden Hours: 466.

Estimated Total Annual Respondent Cost: $19,086.

Estimated Respondents' Operation and Maintenance Costs: $0.

Estimated Respondents' Capital and Start-Up Costs: $0.

Estimated Total Annual Cost to the Federal Government: $9,878.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-09189 Filed 4-28-23; 8:45 am]

BILLING CODE 9111-27-P